NATIONAL SCIENCE FOUNDATION

Advisory Committee for Environmental Research and Education; Notice of Meeting

In accordance with the Federal Advisory Committee Act (Public Law 92-463, as amended), the National Science Foundation announces the following meeting:

Name: Advisory Committee for Environmental Research and Education (9487).

Dates: October 20, 2004, 8:30 a.m.-5 p.m., October 21, 2004, 8:30 a.m.-3:30 p.m.

Place: Stafford I, Room 1235, National Science Foundation, 4201 Wilson Blvd., Arlington, Virginia 22230.

Type of Meeting: Open.

Contact Person: Dr. Margaret Cavanaugh, Directorate for Geosciences, National Science Foundation, Suite 705, 4201 Wilson Blvd., Arlington, Virginia 22230. Phone: (703) 292-8500.

Minutes: May be obtained from the contact person listed above.

Purpose of Meeting: To provide advice, recommendations, and oversight concerning support for environmental research and education.

Agenda:

October 20

Update on recent NSF environmental activities.

Report on NSF-DOE Water workshop.

Discussion of ACERE document on strategies for Complex Environmental Systems research and education and occasional papers.

AC-ERE task group meetings.

October 21

AC-ERE task group reports.

Meeting with the Acting Director.

Presentation on “MIT-CC Partnership”.

Panel on NSF Diversity Programs.

Dated: September 28, 2004.
Susanne Bolton,
Committee Management Officer.

[FR Doc. 04-22224 Filed 10-1-04; 8:45 am]

BILLING CODE 7555-01-M